NUCLEAR REGULATORY COMMISSION

Draft FY 2000-2005 Strategic Plan

AGENCY: Nuclear Regulatory Commission.

ACTION: Request for public comment.

SUMMARY: The Nuclear Regulatory Commission (NRC) is seeking public comment on its draft FY 2000-2005 Strategic Plan which provides a blueprint for the NRC to plan, implement, and monitor work needed to achieve its goals. The Commission will consider public comments in approving the final FY 2000-2005 Strategic Plan.

DATE: Submit comments on the draft strategic plan by April 7, 2000.

ADDRESSES: Submit written comments to David L. Meyer, Chief, Rules and Directives Branch, Mail Stop: T6D59, U.S. Nuclear Regulatory Commission, Washington, DC 20555-0001.

The draft Strategic Plan, as well as the ability to provide comments electronically, are available on the NRC web site at http://www.nrc.gov/NRC/planning.html.

FOR FURTHER INFORMATION CONTACT: Daryl Kade, Mail Stop: T9D24, Office of the Chief Financial Officer, U.S. Nuclear Regulatory Commission, Washington, D.C. 20555. Telephone: (301) 415-7326; FAX: (301) 415-5386; Internet: DWK@NRC.GOV.

SUPPLEMENTARY INFORMATION:

Background

The NRC issued its first Strategic Plan in September 1997, and is required to update it every three years. The NRC's draft FY 2000-2005 Strategic Plan, which has not yet been approved by the Commission, describes the agency's strategic goals, performance goals, and strategies for achieving NRC's mission. It is organized into four strategic arenas: (1) Nuclear Reactor Safety; (2) Nuclear Materials Safety; (3) Nuclear Waste Safety; and (4) International Nuclear Safety Support. To help accomplish agency goals, the NRC has established overarching corporate management strategies which are also described in the draft plan. A summary is provided in Part 1 with more details, as required by the Government Performance and Results Act, provided in Part 2.

Embodied in the plan is the NRC's understanding that decisions must be based first and foremost on their contributions to public health and safety. In addition, the NRC must also consider the effect of its decisions on the public it protects, on the industries it regulates, and on the effectiveness and efficiency of internal NRC operations.

The current plan is based more on performance and the outcomes the NRC intends to achieve. It addresses concerns and comments raised in Congressional hearings, as well as in meetings with members of the public and stakeholders who would be most affected by NRC decisions. Also, the plan captures recent regulatory reform and their outcomes in the long term.

Stakeholder Input to the Strategic Plan

NRC recognizes that work on the Strategic Plan is unfinished and that stakeholder input will further improve the draft plan. Stakeholder input is requested on the draft plan, particularly on the following areas:

• Do goals address appropriate areas?

• Are the strategies to achieve the goals adequate?

• Will performance measures indicate whether we are achieving our goals? In particular, we are seeking comment on those measures where specific metrics have yet to be proposed.

• Do goals and strategies reflect NRC's commitment to institutionalize change?

• Do external factors identify those conditions or circumstances which significantly affect the achievement of our goals?

• Is the strategic plan too lengthy? Is the level of detail sufficient?

Dated at Rockville, Maryland, this 28th day of February, 2000.
For the Nuclear Regulatory Commission.
Jesse L. Funches,
Chief Financial Officer.

[FR Doc. 00-5153 Filed 3-2-00; 8:45 am]

BILLING CODE 7590-01-P